DEPARTMENT OF ENERGY

Federal Energy Regulatory Commission

[Docket No. EL14-32-000]

Public Works Commission of the City of Fayetteville, North Carolina v. Duke Energy Progress, Inc.; Notice of Complaint

Take notice that on March 4, 2014, pursuant to sections 206 and 212 of the Federal Energy Regulatory Commission's (Commission) Rules of Practice and Procedure, 18 CFR 385.206 and 385.212, the Public Works Commission of the City of Fayetteville, North Carolina (FPWC or Complainant) filed a complaint against Duke Energy Progress, Inc. (DEP or Respondent) pursuant to Section 206 of the Federal Power Act seeking an order to reduce the 11 percent return on equity used in calculating rates for power supply and control service under its Power Supply and Control Agreement with Respondent to 8.77 percent and the 10.8 percent return on equity under Respondent's Open Access Transmission Tariff to 8.77 percent.

Complainant certifies that copies of the complaint were served on DEP via electronic mail through its counsel.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, D.C. 20426.

This filing is accessible on-line at http://www.ferc.gov, using the “eLibrary” link and is available for review in the Commission's Public Reference Room in Washington, D.C. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 24, 2014.

Dated: March 5, 2014.
Kimberly D. Bose,
Secretary.

[FR Doc. 2014-05304 Filed 3-11-14; 8:45 am]

BILLING CODE 6717-01-P